OFFICE OF SCIENCE AND TECHNOLOGY POLICY

National Nanotechnology Initiative Meetings

ACTION: Notice of public meetings.

SUMMARY: The National Nanotechnology Coordination Office (NNCO), on behalf of the Nanoscale Science, Engineering, and Technology (NSET) Subcommittee of the Committee on Technology, National Science and Technology Council (NSTC), will facilitate stakeholder discussion of targeted nanotechnology topics through workshops, webinars, and Community of Interest meetings between the publication date of this Notice and December 31, 2018.

DATES: The NNCO will hold one or more workshops, webinars, networks, and Community of Interest teleconferences between the publication date of this Notice and December 31, 2018.

ADDRESSES: Attendance information, including addresses, will be posted on nano.gov. For information about upcoming workshops and webinars, please visit http://www.nano.gov/meetings-workshops and http://www.nano.gov/PublicWebinars. For more information on the Communities of Interest, please visit http://www.nano.gov/Communities.

FOR FURTHER INFORMATION CONTACT: For information regarding this Notice, please contact Marlowe Newman at info@nnco.nano.gov or (202) 517-1050 ext. 107.

SUPPLEMENTARY INFORMATION: These public meetings address the charge in the 21st Century Nanotechnology Research and Development Act for NNCO to provide “for public input and outreach . . . by the convening of regular and ongoing public discussions”. Workshop and webinar topics may include technical subjects; environmental, health, and safety issues related to nanomaterials (nanoEHS); business case studies; or other areas of potential interest to the nanotechnology community. Areas of focus for the Communities of Interest may include research on nanoEHS; nanotechnology education; nanomedicine; nanomanufacturing; or other areas of potential interest to the nanotechnology community. For example, the longstanding U.S.-EU NanoEHS Communities of Research provide a platform for scientists to develop a shared repertoire of protocols and methods to overcome research gaps and barriers in nanosafety-specific focus areas such as human toxicity or risk assessment. The Communities of Interest are not intended to provide any government agency with advice or recommendations; such action is outside of their purview.

Registration: Due to space limitations, pre-registration for workshops is required. Workshop registration is on a first-come, first-served basis, and will be capped as space limitations dictate. Registration information will be available at http://www.nano.gov/meetings-workshops. Registration for the webinars will open approximately two weeks prior to each event and will be capped at 500 participants or as space limitations dictate. Individuals planning to attend a webinar can find registration information at http://www.nano.gov/PublicWebinars. Written notices of participation for workshops, webinars, or Communities of Interest should be sent to by email to info@nnco.nano.gov.

Meeting Accommodations: Individuals requiring special accommodation to access any of these public events should contact info@nnco.nano.gov at least ten business days prior to the meeting so that appropriate arrangements can be made.

Ted Wackler,
Deputy Chief of Staff and Assistant Director.

[FR Doc. 2018-01067 Filed 1-22-18; 8:45 am]

BILLING CODE 3270-F8-P